COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List products and services to be furnished by nonprofit agencies employing persons who are blind or have other severe disabilities, and to delete products previously furnished by such agencies.

Comments must be received on or before: June 16, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C.46-48c) in connection with the products and services proposed for addition to the Procurement List. Comments on this certification are invited.

Commenters should identify the statement(s) underlying the certification on which they are providing additional information.

The following products and services are proposed for addition to Procurement List for production by the nonprofit agencies listed:

Products

Product/NSN: Pad, Message, “While You Were Out”/7530-00-NIB-0547.

NPA: Blind Industries & Services of Maryland, Baltimore, MD.

Contract Activity: Office Supplies & Paper Products Commodity Center, New York, NY.

Product/NSN: Uniforms, Shirts and Pants/8405-00-NSH-0002.

NPA: Middle Georgia Diversified Industries, Inc., Dublin, GA.

Contract Activity: Immigration and Naturalization Service, DOJ.

Product/NSN: Uniforms, Shirts and Pants/8405-00-NSH-0003.

NPA: Middle Georgia Diversified Industries, Inc., Dublin, GA.

Contract Activity: Immigration and Naturalization Service, DOJ.

Product/NSN: Uniforms, Shirts and Pants/8405-00-NSH-0004.

NPA: Middle Georgia Diversified Industries, Inc., Dublin, GA.

Contract Activity: Immigration and Naturalization Service, DOJ.

Product/NSN: Uniforms, Shirts and Pants/8405-00-NSH-0005.

NPA: Middle Georgia Diversified Industries, Inc., Dublin, GA.

Contract Activity: Immigration and Naturalization Service, DOJ.

Product/NSN: Uniforms, Shirts and Pants/8405-00-NSH-0006.

NPA: Middle Georgia Diversified Industries, Inc., Dublin, GA.

Contract Activity: Immigration and Naturalization Service, DOJ.

Product/NSN: Uniforms, Shirts and Pants/8405-00-NSH-0007.

NPA: Middle Georgia Diversified Industries, Inc., Dublin, GA.

Contract Activity: Immigration and Naturalization Service, DOJ.

Product/NSN: Uniforms, Shirts and Pants/8405-00-NSH-0008.

NPA: Middle Georgia Diversified Industries, Inc., Dublin, GA.

Contract Activity: Immigration and Naturalization Service, DOJ.

Product/NSN: Uniforms, Shirts and Pants/8405-00-NSH-0009.

NPA: Middle Georgia Diversified Industries, Inc., Dublin, GA.

Contract Activity: Immigration and Naturalization Service, DOJ.

Product/NSN: Uniforms, Shirts and Pants/8405-00-NSH-0010.

NPA: Middle Georgia Diversified Industries, Inc., Dublin, GA.

Contract Activity: Immigration and Naturalization Service, DOJ.

Product/NSN: Uniforms, Shirts and Pants/8405-00-NSH-0011.

NPA: Middle Georgia Diversified Industries, Inc., Dublin, GA.

Contract Activity: Immigration and Naturalization Service, DOJ.

Product/NSN: Uniforms, Shirts and Pants/8405-00-NSH-0012.

NPA: Middle Georgia Diversified Industries, Inc., Dublin, GA.

Contract Activity: Immigration and Naturalization Service, DOJ.

Product/NSN: Uniforms, Shirts and Pants/8405-00-NSH-0013.

NPA: Middle Georgia Diversified Industries, Inc., Dublin, GA.

Contract Activity: Immigration and Naturalization Service, DOJ.

Product/NSN: Uniforms, Shirts and Pants/8405-00-NSH-0014.

NPA: Middle Georgia Diversified Industries, Inc., Dublin, GA.

Contract Activity: Immigration and Naturalization Service, DOJ.

Product/NSN: Uniforms, Shirts and Pants/8405-00-NSH-0015.

NPA: Middle Georgia Diversified Industries, Inc., Dublin, GA.

Contract Activity: Immigration and Naturalization Service, DOJ.

Services

Service Type/Location: Administrative Support Services/Federal Bureau of Prisons, Butner, NC.

NPA: Raleigh Lions Clinic for the Blind, Inc., Raleigh, NC.

Contract Activity: Federal Bureau of Prisons LSCI, Butner, NC.

Service Type/Location: Administrative Support Services.

GSA Tampa Property Management Office, Tampa, FL.

NPA: Tampa Lighthouse for the Blind, Tampa, FL.

Contract Activity: GSA Property Management Division, Atlanta, GA.

Service Type/Location: Base Supply Center.

Headquarters U.S. Army Infantry Center, Fort Benning, GA.

NPA: L.C. Industries For The Blind, Inc., Durham, NC.

Contract Activity: Headquarters U.S. Army Infantry Center, Fort Benning, GA.

Deletions

I certify that the following action will not have a significant impact on a substantial number of small entities. The major factors considered for this certification were:

1. If approved, the action will not result in any additional reporting, recordkeeping or other compliance requirements for small entities other than the small organizations that will furnish the products to the Government.

2. There are no known regulatory alternatives which would accomplish the objectives of the Javits-Wagner-O'Day Act (41 U.S.C. 46-48c) in connection with the products proposed for deletion from the Procurement List.

The following products have been proposed for deletion from the Procurement List:

Products

Product/NSN: Impulse Merchandising Program (IMP) Shippers/M.R. 11522.

NPA: Winston-Salem Industries for the Blind, Winston-Salem, NC.

Contract Activity: Defense Commissary Agency, Fort Lee, VA.

Product/NSN: Impulse Merchandising Program (IMP) Shippers/M.R. 11577.

NPA: Winston-Salem Industries for the Blind, Winston-Salem, NC.

Contract Activity: Defense Commissary Agency, Fort Lee, VA.

Product/NSN: Impulse Merchandising Program (IMP) Shippers/M.R. 11602.

NPA: Winston-Salem Industries for the Blind, Winston-Salem, NC.

Contract Activity: Defense Commissary Agency, Fort Lee, VA.

Product/NSN: Impulse Merchandising Program (IMP) Shippers/M.R. 11618.

NPA: Winston-Salem Industries for the Blind, Winston-Salem, NC.

Contract Activity: Defense Commissary Agency, Fort Lee, VA.

Product/NSN: Impulse Merchandising Program (IMP) Shippers/M.R. 11695.

NPA: Winston-Salem Industries for the Blind, Winston-Salem, NC.

Contract Activity: Defense Commissary Agency, Fort Lee, VA.

Sheryl D. Kennerly,
Director, Information Management.

[FR Doc. 02-12433 Filed 5-16-02; 8:45 am]

BILLING CODE 6353-01-P